DEPARTMENT OF THE INTERIOR

National Park Service

30-Day Notice of Submission of Study Package to Office of Management and Budget; Opportunity for Public Comment

AGENCY: National Park Service, Department of the Interior.

ACTION: Notice and request for comments.

SUMMARY: The Cape Cod National Seashore Impacts of Hunting Survey of Hunters, Visitors and Residents will provide park managers and others with important social science input about public attitudes on hunting and an assessment about whether conflicts over hunting are occurring at the Cape Cod National Seashore. Specifically the study will use hunter, resident and visitor surveys to (1) assess attitudes about hunting and hunting programs at the Cape Cod National Seashore, (2) determine the extent of conflict between hunters and nonhunters in the Cape Cod National Seashore and surrounding communities, (3) assess the extent to which the attitudes and characteristics of area residents and visitors to Cape Cod National Seashore have changed since the early 1990s, and (4) estimate the extent, and distribution of hunters and profile the behaviors of hunters within the Seashore.

| Estimated numbers of: Responses | Estimated numbers of: Burden hours
Cape Cod National Seashore Impacts of Hunting Survey | 2,900 | 929

Under provisions of the Paperwork Reduction Act of 1995 and 5 CFR Part 1320, Reporting and Record Keeping Requirements, the National Park Service (NPS) invites comments on a request submitted to the Office of Management and Budget (OMB) to approve a new collection of information (OMB #1024-XXXX). Comments are invited on: (1) The practical utility of the information being gathered; (2) the accuracy of the burden hour estimate; (3) ways to enhance the quality, utility, and clarity of the information to be collected; and (4) ways to minimize the burden to respondents, including use of automated information collection techniques or other forms of information technology.

Cape Cod National Seashore has been charged by the United States District Court, District of Massachusetts to re-evaluate its hunting programs and will be preparing an Environmental Impact Statement (EIS) of hunting within its borders. This study will provide social science input into the EIS process by measuring the attitudes toward hunting among Seashore visitors and the Seashore neighbors, the extent of conflict between hunters and non-hunters, and the attitudes and behaviors of hunters at the Seashore.

DATES: Public comments will be accepted on or before March 24, 2005.

ADDRESSES: You may submit comments directly to the Desk Officer for the Department of the Interior, (OMB # 1024-XXXX) Office of Information and Regulatory Affairs, OMB, by fax at 202-395-6566, or by electronic mail at oira_docket@omb.eop.gov.

The OMB has up to 60 days to approve or disapprove the information collection but may respond after 30 days. Therefore, to ensure maximum consideration, OMB should receive public comments within thirty days of the date on which this notice is published in the Federal Register.

FOR FURTHER INFORMATION OR A COPY OF THE STUDY PACKAGE SUBMITTED FOR OMB REVIEW, CONTACT: Dr. Jim Gramann, Visiting Chief Social Scientist, National Park Service, Social Science Program, via phone at 202-513-7189, via fax at 202-371-2131, or via electronic mail at james_gramann@partner.nps.gov.

SUPPLEMENTARY INFORMATION:

Titles: Cape Cod National Seashore Impacts of Hunting Survey of Visitors and Residents.

Bureau Form Number: None.

OMB Number: To be requested.

Expiration Date: To be requested.

Type of request: New Collection.

Description of need: Because of the long standing tradition of hunting on Cape Cod, the enabling legislation of Cape Cod National Seashore in 1961 allowed for continued hunting activity within the boundaries of the Seashore. Animal rights groups have argued that environmental and social conditions in and around the Seashore have changed, and that hunting should be discontinued. Public meetings about this issue have been contentious, with the hunting community voicing strong opposition to changes in current hunting regulations within the Seashore. Given the polarity of the current debate, questions remain: Do area residents and visitors object to hunting in the Seashore, are they neutral about the issue, or do they consider it an appropriate and/or desirable use of the area? To what extent do residents and visitors feel threatened by hunting activities? How often do conflicts occur between hunters and non-hunters during the fall and winter hunting seasons? And what is the extent of hunting activity on the Seashore? This study is designed to better understand the scope of hunting activities at the Seashore, the degree of conflict that occurs over the practice, and how people feel about hunting at the Seashore.

Automated data collection: At the present time, there is no automated way to gather this information because it includes directly contacting hunters, visitors to Cape Cod National Seashore, and residents in the six surrounding townships.

Description of respondents: Visitors to Cape Cod National Seashore and residents of the following townships on Cape Cod: Provincetown, Truro, Wellfleet, Eastham, Orleans, and Chatham.

Estimated average number of respondents: 2,900.

Estimated average number of responses: 2,900.

Estimated average burden hours per response: 20 minutes.

Frequency of Response: 1 time per respondent.

Estimated annual reporting burden: 929 hours.

Dated: November 17, 2004.
Leonard E. Stowe,
Acting, National Park Service Information Collection Clearance Officer.

[FR Doc. 05-3347 Filed 2-18-05; 8:45 am]

BILLING CODE 4312-52-P